Proclamation 7300 of April 29, 2000

Loyalty Day, 2000

By the President of the United States of America

A Proclamation

In the Declaration of Independence and in the Constitution, our Nation's founders first articulated the enduring ideals that have sustained our democracy—freedom, self-determination, justice, and equality. Each year we set aside this special day to reaffirm our allegiance to those ideals and to our beloved country.

The power and promise of our country's principles moved men and women throughout the American colonies to declare their allegiance to a new country and a new form of government that respected the rights of the individual. Throughout the decades, millions of immigrants drawn to America's freedom proved their loyalty to their adopted Nation in the words of the oath of citizenship and in their daily lives—working hard, striving to build a better future for their families and communities, serving in our Armed Forces, upholding our laws, and participating in our democracy.

Other Americans have showed their loyalty by courageously challenging our Nation to live up to its ideals. We owe a profound debt to the heroes and visionaries who opposed slavery, reformed labor practices, won the right to vote for women, marched for civil rights, and spoke out with conscience and conviction whenever we have failed to uphold the highest standards of freedom and justice.

We find perhaps the strongest and most moving evidence of loyalty to America in the service and sacrifice of our men and women in uniform. From the War of Independence to today's peacekeeping missions around the world, generations of Americans have shown their allegiance by defending our Nation against tyrants and terrorists, protecting our national interests wherever they are threatened, and promoting our values across the globe.

On this first Loyalty Day of the 21st century, all Americans should give thanks that we live in a Nation that inspires such fidelity. And we should remember with pride the loyal patriots who have gone before us, whose character and efforts built America, preserved it in times of peril, and gave life to our founders' dreams.

Recognizing the importance of loyalty to the continued strength of our country and success of our democracy, the Congress, by Public Law 85-529, has designated May 1 of each year as “Loyalty Day.”

NOW, THEREFORE, I, WILLIAM J. CLINTON, President of the United States of America, do hereby proclaim May 1, 2000, as Loyalty Day. I urge all Americans to recall the valor and selflessness of all those who made this Nation worthy of our love and loyalty and to express our own loyalty through appropriate patriotic programs, ceremonies, and activities. I also call upon Government officials to display the flag of the United States in support of this national observance.

IN WITNESS WHEREOF, I have hereunto set my hand this twenty-ninth day of April, in the year of our Lord two thousand, and of the Independence of the United States of America the two hundred and twenty-fourth.

wj

[FR Doc. 00-11142

Filed 5-2-00; 8:45 am]

Billing code 3195-01-P